ENVIRONMENTAL PROTECTION AGENCY

[FRL OP-OFA-190]

Environmental Impact Statements; Notice of Availability

Responsible Agency: Office of Federal Activities, General Information 202-564-5632 or https://www.epa.gov/nepa.

Weekly receipt of Environmental Impact Statements (EIS)

Filed July 28, 2025 10 a.m. EST Through August 4, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250103, Draft, BLM, OR, Grassy Mountain Mine, Comment Period Ends: 09/08/2025, Contact: Caryn Burri 541-473-3144.

EIS No. 20250104, Draft, FHWA, NC, Proposed Carolina Bays Parkway Extension, Comment Period Ends: 09/22/2025, Contact: Clarence W. Coleman, P.E. 919-630-6096.

EIS No. 20250105, Draft Supplement, USAF, AR, Foreign Military Sales F-35 Pilot Training Center at Ebbing Air National Guard Base, Arkansas, Comment Period Ends: 09/25/2025, Contact: Austin Naranjo 210-652-4400.

EIS No. 20250106, Final Supplement, FERC, TX, Rio Grande LNG, LLC's et al. Rio Grande LNG Terminal and Rio Bravo Pipeline Project, Review Period Ends: 09/08/2025, Contact: Office of External Affairs 866-208-3372.

EIS No. 20250107, Final Supplement, FERC, TX, Texas LNG Brownsville LLC re Texas LNG Project, Review Period Ends: 09/08/2025, Contact: Office of External Affairs 866-208-3372.

EIS No. 20250109, Final, NRC, IL, Generic Environmental Impact Statement for License Renewal of Nuclear Plants Supplement 63 Regarding License Renewal for Clinton Power Station, Unit 1, Review Period Ends: 09/08/2025, Contact: Ashley Waldron 301-415-7317.

EIS No. 20250110, Draft, FAA, FL, SpaceX Starship-Super Heavy Launch Vehicle at Launch Complex 39A at the Kennedy Space Center, Merritt Island, Florida, Comment Period Ends: 09/22/2025, Contact: Eva Long 321-759-2188.

EIS No. 20250111, Final, Caltrans, CA, Albion River Bridge Project, Review Period Ends: 09/08/2025, Contact: Rachelle Estrada 707-441-5930.

Dated: August 4, 2025.
Nancy Abrams,
Associate Director, Office of Federal Activities.

[FR Doc. 2025-15103 Filed 8-7-25; 8:45 am]

BILLING CODE 6560-50-P